DEPARTMENT OF TRANSPORTATION

Federal Aviation Administration

14 CFR Part 91

[Docket No. FAA-2013-0061]

Public Meeting: Unmanned Aircraft Systems Test Site Program; Privacy Approach

AGENCY: Federal Aviation Administration, DOT.

ACTION: Notice of public engagement session.

SUMMARY: The FAA will be holding a public engagement session on Wednesday, April 3, 2013, on the proposed privacy policy approach for the unmanned aircraft systems (UAS) test site program. The FAA is seeking the views from the public with respect to proposed privacy language to be included in agreements with each test site operator.

DATES: The session will be held via teleconference on Wednesday, April 3, 2013, beginning at 12 noon Eastern Daylight Savings Time and ending no later than 2 p.m. Eastern Daylight Savings Time.

FOR FURTHER INFORMATION CONTACT: Gregory C. Carter, Office of the Chief Counsel, Federal Aviation Administration, 800 Independence Ave. SW., Washington, DC 20591; email: 9-AGC-UASPrivacy@faa.gov.

SUPPLEMENTARY INFORMATION: This document is a follow-on to a Notice of availability and request for comments published in the Federal Register on February 22, 2013 (78 FR 12259), Docket No. FAA-2013-0061. In that document, the agency described its proposed privacy plan for the UAS test site program and requested comments on that proposal. The agency also stated that it would provide details (including the date and time) for the engagement session sufficiently in advance of the meeting to facilitate broad participation. This document provides those details. The agency will post information on how to register for the public meeting at http://www.faa.gov/about/initiatives/uas/ when all details are finalized. This Web site will also provide instructions on how to participate in the engagement session.

As to the meeting itself, the FAA will provide an overview of the FAA's UAS Test Site Program (including Section 322 (c) of the FAA's Reform and Modernization Act of 2012) and the proposed privacy plan. The agency may also invite short statements from one to two representatives from advocacy interest groups and the UAS industry. After the introductory statements and overview, the FAA will take comments from participants regarding the agency's proposed privacy plan that would apply to each UAS test site selected under the program. At some later time, after considering comments made during the engagement session as well as comments received during the comment period, FAA will notify the public about any further action the agency intends to take.

Background: On February 14, 2012, Congress mandated that the FAA, coordinating with the National Aeronautics and Space Administration and the Department of Defense, develop a test site program for the integration of unmanned aircraft systems in to the National Airspace System. The overall purpose of this test site program is to develop a body of data and operational experiences to inform integration and the safe operation of these aircraft in the National Airspace System. On Friday, February 22, 2013, the FAA published in the Federal Register a Notice of availability and request for comment soliciting comments on the FAA's proposed approach for addressing the privacy questions raised by the public and Congress with regard to the operation of unmanned aircraft systems within the test site program (78 FR 12259).

The proposed privacy requirements for which comments are requested are as follows:

(1) The Site Operator must ensure that there are privacy policies governing all activities conducted under the OTA [Other Transaction Agreement], including the operation and relevant activities of the UASs authorized by the Site Operator. Such privacy policies must be available publically, and the Site Operator must have a mechanism to receive and consider comments on its privacy policies. In addition, these policies should be informed by Fair Information Practice Principles. The privacy policies should be updated as necessary to remain operationally current and effective. The Site Operator must ensure the requirements of this paragraph are applied to all operations conducted under the OTA.

(2) The Site Operator and its team members are required to operate in accordance with Federal, state, and other laws regarding the protection of an individual's right to privacy. Should criminal or civil charges be filed by the U.S. Department of Justice or a state's law enforcement authority over a potential violation of such laws, the FAA may take appropriate action, including suspending or modifying the relevant operational authority (e.g., Certificate of Operation, or OTA), until the proceedings are completed. If the proceedings demonstrate the operation was in violation of the law, the FAA may terminate the relevant operational authority.

(3) If over the lifetime of this Agreement, any legislation or regulation, which may have an impact on UAS or to the privacy interests of entities affected by any operation of any UAS operating at the Test Site, is enacted or otherwise effectuated, such legislation or regulation will be applicable to the OTA, and the FAA may update or amend the OTA to reflect these changes.

(4) Transmission of data from the Site Operator to the FAA or its designee must only include those data listed in Appendix B to the OTA. (Appendix B to the OTA is available as part of the SIR [Screening Information Request] at http://faaco.faa.gov.)

The FAA anticipates that test site operator privacy practices as discussed in their privacy policies will help inform the dialogue among policymakers, privacy advocates, and the industry regarding broader questions concerning the use of UAS technologies. The privacy requirements proposed here are specifically designed for the operation of the UAS Test Sites. They are not intended to pre-determine the long-term policy and regulatory framework under which commercial UASs would operate. Rather, they aim to assure maximum transparency of privacy policies associated with UAS test site operations in order to engage all stakeholders in discussion about which privacy issues are raised by UAS operations and how law, public policy, and the industry practices should respond to those issues in the long run.

Issued in Washington, DC on March 21, 2013.
Nathan Tash,
Assistant Chief Counsel, Acquisition and Fiscal Law Division, Federal Aviation Administration.

[FR Doc. 2013-07280 Filed 3-27-13; 8:45 am]

BILLING CODE 4910-13-P